DEPARTMENT OF ENERGY

Federal Energy Regulatory Commission

[Project No. 2088-068]

South Feather Water and Power Agency; Notice of Availability of the Draft Supplemental Environmental Impact Statement for the South Feather Power Project

In accordance with the National Environmental Policy Act of 1969 and the Federal Energy Regulatory Commission's (Commission or FERC) regulations, 18 CFR part 380, the Office of Energy Projects has reviewed the application for a new license for the existing South Feather Power Project (FERC No. 2088) and has prepared a draft supplemental environmental impact statement (SEIS) for the project. The project is located on the South Fork Feather River, Lost Creek, and Slate Creek in Butte, Yuba, and Plumas Counties, California and occupies 1,977.12 acres of federal land administered by Plumas National Forest and 10.57 acres of federal land administered by the U.S. Bureau of Land Management. The project is a water supply and power generating project consisting of four hydroelectric developments: Sly Creek, Woodleaf, Forbestown, and Kelly Ridge, which combined provide 117.3-megawatts of power generating capacity and an average of 498,972 megawatt-hours of electricity annually.

On June 4, 2009, Commission staff issued a final environmental impact statement (EIS) on the proposed relicensing of the South Feather Power Project. On October 23, 2012, South Feather Water and Power Agency entered into a Settlement Agreement with the Department of Water Resources of the State of California and the State Water Contractors, Incorporated. On November 30, 2018, the California State Water Resources Control Board issued a water quality certificate for the project. Additionally, on October 14, 2022, the U.S. Department of Agriculture, Forest Service filed revised final 4(e) conditions. The draft SEIS describes staff's analysis of the applicant's proposal and the alternatives for relicensing the project, including our analyses of the terms and conditions included in the filings made subsequent to the issuance of the final EIS as well as the potential effects on species newly listed or updated under the Endangered Species Act. The draft SEIS documents the views of governmental agencies, non-governmental organizations, affected Indian tribes, the public, the license applicant, and Commission staff.

The Commission provides all interested persons with an opportunity to view and/or print the draft SEIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

Any comments must be filed within 60 days from the date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2088-068.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Anyone may intervene in this proceeding based on this draft SEIS (18 CFR 380.10). You must file your request to intervene as specified above.¹ You do not need intervenor status to have your comments considered.

¹ Interventions may also be filed electronically via the internet in lieu of paper. See the previous discussion on filing comments electronically.

For further information, please contact Quinn Emmering, the Commission's relicensing coordinator for the project, at (202) 502-6382 or quinn.emmering@ferc.gov.

Dated: October 19, 2023.
Kimberly D. Bose,
Secretary.

[FR Doc. 2023-23586 Filed 10-24-23; 8:45 am]

BILLING CODE 6717-01-P